DEPARTMENT OF HEALTH AND HUMAN SERVICES

Office of the Secretary

Emergency Clearance: Public Information Collection Requirements Submitted to the Office of Management and Budget (OMB)

In compliance with the requirements of section 3506(c)(2)(A) of the Paperwork Reduction Act of 1995, the Department of Health and Human Services (DHHS), has submitted to the Office of Management and Budget (OMB) the following request for emergency review. We are requesting an emergency review because we believe the collection of this information will be extremely useful prior to the World Summit on Sustainable Development to be held in Johannesburg, South Africa, from 26 August—4 September, 2002. This summit is regarded as one of the most significant United Nations conferences in recent times. The Summit will shape future actions within a globally defined sustainable development agenda. Health is emerging as a particularly important global priority in the context of sustainable development. In this context, the information (opinions) from the two proposed groups is important, both for U.S. participation in the summit itself and for the follow-up that will need to begin immediately thereafter.

Most countries will be represented in Johannesburg by their head of state/government, cabinet level, and other appropriate senior government officials, among others. Details of the U.S. delegation have not been finalized. However, the United States will surely be represented at an appropriate senior level, along with other senior government officials, and others. The results of this study, related to the current awareness and perceptions of global health among key U.S. influencers and the general public, will be used to inform and shape U.S. participation and strategies at the summit, and in particular will shape important follow up activities for the Department of Health and Human Services beginning immediately after the summit. Following the normal clearance procedures would not allow us to complete the study in time to make this important information available in time for the United Nations world summit this summer. DHHS is requesting that OMB grant emergency approval as soon as possible for 180-days.

Title and Description of Information Collection: Global Health Public Opinion Research—The purpose of this information collection is to provide important information to U.S. policy makers as they prepare for this country's participation at The World Summit on Sustainable Development in August-September 2002. Respondents: Key influencers and the general public; Number of Respondents: 800 general public, 182 key influencers; Number of Responses per Respondent: one; Average Burden per Response: 0.2 hours—Key influencers, 0.25 hours—general public; Total Burden on Respondents: 236 hours.

To request more information please contact Cynthia Bauer at 202-690-6207 or Dr. Melinda Moore at 301-443-1774.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Written comments and recommendations for the proposed information collections should be sent immediately directly to Allison Eydt, the OMB Desk Officer, at the following address: OMB Human Resources and Housing Branch, New Executive Office Building, Room 10235, Washington, DC 20503.

Comments may be faxed to Ms. Eydt at 202-395-6974.

Please send a copy of your comments to Cynthia Agnes Bauer, OS Reports Clearance Officer, Room 503H, Humphrey Building, 200 Independence Avenue SW., Washington, DC 20201.

Dated: August 2, 2002.
Kerry Weems,
Deputy Assistant Secretary, Budget.

[FR Doc. 02-20292 Filed 8-9-02; 8:45 am]

BILLING CODE 4150-28-M